DEPARTMENT OF HEALTH AND HUMAN SERVICES

Office of the Secretary

Agency Information Collection Activities; Proposed Collections; Comment Request

The Department of Health and Human Services, Office of the Secretary will periodically publish summaries of proposed information collections projects and solicit public comments in compliance with the requirements of section 3506(c)(2)(A) of the Paperwork Reduction Act of 1995. To request more information on the project or to obtain a copy of the information collection plans and instruments, call the OS Reports Clearance Office at (202) 619-2118 or e-mail Geerie.Jones@HHS.gov.

Comments are invited on: (a) Whether the proposed collection of information is necessary for the proper performance of the functions of the agency, including whether the information shall have practical utility; (b) the accuracy of the agency's estimate of the burden of the proposed collection of information; (c) ways to enhance the quality, utility and clarity of the information to be collected; and (d) ways to minimize the burden of the collection of information on respondents, including through the use of automated collection techniques or other forms of information technology.

Proposed Project 1. Temporary Assistance to Needy Families (TANF) Caseload Survey—NEW—The Assistant Secretary for Planning and Evaluation has developed a common TANF beneficiary survey instrument to be used by five states and the District of Columbia awarded TANF caseload grants. The grantees are: California, Colorado, Maryland, Missouri, South Carolina and Washington DC. The purpose of this survey is to develop a better understanding of the characteristics and needs of states' current TANF caseloads. Respondents: Individuals; Number of respondents: 6500; Burden per Response: 45 minutes; Total Burden: 4,875 hours.

Send comments via e-mail to Geerie.Jones@HHS.gov, or mail to OS Reports Clearance Office, Room 503H, Hubert H. Humphrey Building, 200 Independence Avenue SW., Washington DC, 20221. Comments should be received within 60 days of this notice.

Dated: November 20, 2001.
Kerry Weems,
Acting Deputy Assistant Secretary, Budget.

[FR Doc. 01-29797 Filed 11-29-01; 8:45 am]

BILLING CODE 4154-05-M